DEPARTMENT OF ENERGY

Federal Energy Regulatory Commission

[Docket Nos. PF04-2-000 and PF04-5-000]

BP Crown Landing, LLC and Texas Eastern Transmission, LP; Notice of Intent To Prepare an Environmental Impact Statement for the Proposed Crown Landing LNG and Logan Lateral Projects, Request for Comments on Environmental Issues, and Notice of Public Scoping Meetings

April 19, 2004.

The staff of the Federal Energy Regulatory Commission (FERC or Commission) will prepare an environmental impact statement (EIS) that will discuss the environmental impacts of BP Crown Landing, LLC's (Crown Landing) Crown Landing LNG Project located in Gloucester County, New Jersey and New Castle County, Delaware. The EIS will also address the associated Texas Eastern Transmission, LP's (Texas Eastern) Logan Lateral Project in Gloucester County, New Jersey and Delaware County, Pennsylvania. This notice announces the opening of the scoping process we will use to gather input from the public and interested agencies on the projects. Your input will help the Commission staff determine which issues need to be evaluated in the EIS. Please note that the scoping period will close on June 21, 2004.

Comments may be submitted in written form or verbally. Further details on how to submit written comments are provided in the public participation section of this notice. In lieu of sending written comments, you are invited to attend the public scoping meetings that are scheduled as follows:

Wednesday, May 5, 2004, 7 p.m., Robert E. Wilson Community Center, 1150 Engle Street, Chester Township, PA, (610) 494-4149.

Thursday, May 6, 2004, 7 p.m., Holiday Inn, One Pureland Drive (I-295 at Exit 10), Swedesboro, NJ, (856) 467-3322.

This notice is being sent to affected landowners; Federal, State, and local government representatives and agencies; environmental and public interest groups; Native American tribes; other interested parties; and local libraries and newspapers in this proceeding. We encourage government representatives to notify their constituents of these planned projects and encourage them to comment on their areas of concern.

Summary of the Proposed Projects

Crown Landing proposes to construct and operate an LNG import terminal on the eastern shoreline of the Delaware River in Logan Township, New Jersey. The LNG terminal would consist of facilities capable of unloading LNG ships, storing up to 450,000 cubic meters of LNG (9.2 billion cubic feet of natural gas equivalent), vaporizing the LNG, and sending out natural gas at a rate of up to 1.2 billion cubic feet per day. Crown Landing proposes to interconnect the LNG facilities on site with two existing pipelines owned and operated by Columbia Gas Transmission Company and Transcontinental Gas Pipe Line Corporation. In addition, Texas Eastern would construct and operate a lateral from its Chester Junction facility in Chester, Pennsylvania to the proposed LNG terminal. The LNG terminal and pipeline facilities would consist of:

• A ship unloading facility capable of receiving LNG ships with capacities up to 200,000 cubic meters;

• Three 150,000 cubic meter (net capacity) full-containment LNG storage tanks, comprised of 9 percent nickel steel inner tank, pre-stressed concrete outer tank, and a concrete roof;

• A closed loop shell and tube heat exchanger vaporization system;

• Various ancillary facilities, including administrative offices, warehouse/maintenance building, main control center, guardhouse, and a pier control room;

• Three meter and regulation stations located on the proposed LNG terminal site; and

• Approximately 9.6 miles of 30-inch-diameter natural gas pipeline (4.9 miles in Pennsylvania and 4.7 miles in New Jersey), a main line valve, and a meter and regulation station located on the LNG terminal site.

A map depicting Crown Landing's proposed LNG terminal site and Texas Eastern's proposed pipeline route is provided in appendix 1.¹

¹ The appendices referenced in this notice are not being printed in the Federal Register. Copies are available on the Commission's Web site at the “eLibrary” link or from the Commission's Public Reference and Files Maintenance Branch, Room 2A or call (202) 502-8371. For instructions on connecting to eLibrary refer to the end of this notice. Copies of the appendices were sent to all those receiving this notice in the mail.

Crown Landing is requesting approval to begin construction of the LNG facilities in August 2005 and proposes an in-service date of September 2008. Texas Eastern would begin construction of the proposed pipeline and aboveground facilities in 2006 and proposes an in-service date in the Fall of 2008.

The EIS Process

The FERC will use the EIS to consider the environmental impact that could result if it issues Crown Landing an Order Authorizing Approval of a Place of Import under section 3 of the Natural Gas Act and it issues Texas Eastern a Certificate of Public Convenience and Necessity.

This notice formally announces our preparation of the EIS and the beginning of the process referred to as “scoping.” We ² are soliciting input from the public and interested agencies to help us focus the analysis in the EIS on the potentially significant environmental issues related to the proposed actions.

² “We,” “us,” and “our” refer to the environmental staff of the Office of Energy Projects.

Our independent analysis of the issues will be included in a single draft EIS prepared for both projects. The draft EIS will be mailed to Federal, state, and local government agencies; elected officials; environmental and public interest groups; Native American tribes; affected landowners; other interested parties; local libraries and newspapers; and the FERC's official service list for this proceeding. A 45-day comment period will be allotted for review of the draft EIS. We will consider all comments on the draft EIS and revise the document, as necessary, before issuing a final EIS.

Although no formal application for authorizing import or natural gas facilities has been filed, the FERC staff is initiating its NEPA review now. The purpose of the FERC's NEPA Pre-filing Process is to encourage the early involvement of interested stakeholders and to identify and resolve issues before an application is filed with the FERC.

We have held early discussions with other jurisdictional agencies to identify their issues and concerns. These agencies include the U.S. Army Corps of Engineers, U.S. Coast Guard; National Oceanic and Atmospheric Fisheries, U.S. Fish and Wildlife Service, New Jersey Department of Environmental Protection, New Jersey Department of Transportation, Delaware Department of Natural Resources and Environmental Control, Delaware Historic Preservation Office, and Delaware River Basin Commission. By this notice, we are asking these and other Federal, state, and local agencies with jurisdiction and/or special expertise with respect to environmental issues to formally cooperate with us in the preparation of the EIS. Agencies that would like to request cooperating status should follow the instructions for filing comments provided below.

Public Participation

You can make a difference by providing us with your specific comments or concerns about the proposals. Your comments should focus on the potential environmental effects, reasonable alternatives (including alternative terminal sites and pipeline routes), and measures to avoid or lessen environmental impact. The more specific your comments, the more useful they will be. To ensure that your comments are timely and properly recorded, please mail your comments so that they will be received in Washington, DC on or before June 21, 2004, and carefully follow these instructions:

• Send an original and two copies of your letter to: Magalie R. Salas, Secretary, Federal Energy Regulatory Commission, 888 First St., NE., Room 1A, Washington, DC 20426;

• Label one copy of the comments for the attention of Gas Branch 1, DG2E;

• Reference Docket Nos. PF04-2-000 and PF04-5-000 on the original and both copies.

The public scoping meetings to be held on May 5 and 6, 2004 in Chester Township, PA and Swedesboro, NJ are designed to provide another opportunity to offer comments on the proposed projects. Interested groups and individuals are encouraged to attend these meetings and to present comments on the environmental issues they believe should be addressed in the EIS. Transcripts of the meetings will be made so that your comments will be accurately recorded.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Crown Landing and Texas Eastern submit their applications for authorization to construct and operate the Crown Landing LNG and Logan Lateral Projects, the Commission will publish a Notice of Application in the Federal Register and will establish a deadline for interested persons to intervene in the proceeding. Because the Commission's NEPA Pre-filing Process occurs before an application to begin a proceeding is officially filed, petitions to intervene during this process are premature and will not be accepted by the Commission.

Environmental Mailing List

If you wish to be taken off our environmental mailing list, please return the “Remove from Mailing List” Form included in appendix 2. If you do not return this form, you will remain on our mailing list.

Availability of Additional Information

Additional information about the project is available from the Commission's Office of External Affairs at 1-866-208-FERC (3372) or on the FERC Internet Web site (http://www.ferc.gov). Using the “eLibrary” link, select “General Search” from the eLibrary menu, enter the selected date range and “Docket Number” (i.e., PF04-2-000 or PF04-5-000), and follow the instructions. Searches may also be done using the phrase “Crown Landing LNG” or “Logan Lateral” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Crown Landing has established an Internet Web site for its project at http://www.bpcrownlanding.com. The Web site includes a description of the project, maps and photographs of the proposed site, information on LNG, and links to related documents.

Magalie R. Salas,
Secretary.

[FR Doc. E4-937 Filed 4-26-04; 8:45 am]

BILLING CODE 6717-01-P